NATIONAL SCIENCE FOUNDATION

Notice of Permit Application Received Under the Antarctic Conservation Act of 1978

AGENCY: National Science Foundation.

ACTION: Notice of permit applications received under the Antarctic Conservation Act.

SUMMARY: The National Science Foundation (NSF) is required to publish notice of permit applications received to conduct activities regulated under the Antarctic Conservation Act of 1978. NSF has published regulations under the Antarctic Conservation Act at title 45 part 670 of the Code of Federal Regulations. This is the required notice of permit applications received.

Notice is hereby given that the National Science Foundation (NSF) has received a waste management permit application for operation of remote field camps during a skiing/climbing expedition in the Antarctic interior. The application is submitted to NSF pursuant to regulations issued under the Antarctic Conservation Act of 1978.

DATES: Interested parties are invited to submit written data, comments, or views with respect to this permit application by November 6, 2003. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: The National Science Foundation, as directed by the Antarctic Conservation Act of 1978 (Pub. L. 95-541), as amended by the Antarctic Science, Tourism and Conservation Act of 1996, has developed Antarctic Waste Regulations, 45 CFR part 671, that requires all U.S. citizens and entities to obtain a permit for the use or release of a designated pollutant in Antarctica, and for the release of waste in Antarctica.

The waste permit applications received are as follows:

[Permit Application No. 2004 WM-004]

1. Applicant

Ralph Fedor, 2337 Granite View Road, Waite Park, MN 56387.

Activity for Which Permit is Requested: The applicant is a member of the Peter 1st Ham Radio Expedition and makes this application for a Waste Management Permit for the use and release of designated pollutants. The applicant along with approximately 15 others will establish a temporary camp on Seal Island using several Weather Haven shelters for sleeping, cooking and eating, and two small lab or work areas. The camp will be established for approximately 2.5 weeks, after which it will be removed. Propane tanks for cooking and 55 gallon drums of unleaded gas will be used to operate electric generators. These items will be secured and have tarps underneath to contain any possible spills. Daily inspections will be conducted to ensure items are secure. All human, paper, kitchen wastes will be removed from Antarctica. All items brought ashore will be returned to the ship for proper disposition.

Location: Peter I Island.

Dates: January 9, 2004 to February 9, 2004.

[Permit Application No. 2004 WM-005]

2. Applicant

David Rootes, Environmental Manager, Antarctic Logistics and Expeditions, Ltd., 4350 N. Fairfax Drive, Suite 840, Arlington, VA 22203.

Activity for Which Permit is Requested: Antarctic Logistics and Expeditions, Ltd (ALE) will provide logistic support for expeditions to Antarctica and will operate from Patriot Hills, Antarctica, for the 2003/2004 season. Primary logistics support and operations are offered for Mt. Vinson climbing groups as well as private expeditions along the general route to the South Pole. ALE proposes to establish a base camp in the Patriot Hills to support its expeditions. Unleaded fuel for snowmobile and generators, and white gas for cooking will be secured and spill mats and drip trays will be used to minimize possible spills. All food waste, sewage, solid wastes (i.e., paper, plastics, timber, metal, glass, and fuel drums) will be removed from Antarctica or proper disposal.

Location: Patriot Hills, Antarctica.

Dates: November 1, 2003 to February 29, 2008.

[Permit Application No. 2004 WM-006]

Jennifer Miller, Solo World Challenge, Ltd. “Polar First”, Flat 2, One Onslow Gardens, London SW7 3LX, UK.

Activity for Which Permit is Requested: Solo World Challenge Ltd. (“Polar First”) makes application for a waste management permit for the use and release of designated pollutants and wastes generated by two pilots and a Bell 407 helicopter during their journey from Punta Arenas to the South Pole and back. Approximately 5,440 liters of Jet A1 fuel will be stored at various caches for refueling the helicopter. The Jet A1 fuel will also be used for the cooking stove. The pilots will have a fuel proof, rubberized container of suitable size to fit the drums during refueling to catch any possible spillage. The pilots will carry approximately 3 gallons of oil, and ½ liter of hydraulic fuel for maintenance purposes. Sewage, solid, and food wastes will be stored in containers and removed from Antarctica for proper disposal.

Location: Antarctic Peninsula area and onward toward the South Pole.

Dates: November 6, 2003 to January 15, 2004.

Nadene G. Kennedy,
Permit Officer.

[FR Doc. 03-25461 Filed 10-7-03; 8:45 am]

BILLING CODE 7555-01-M